DEPARTMENT OF TRANSPORTATION

Maritime Administration

Docket Number: [MARAD-2000-7831]

Requested Administrative Waiver of the Coastwise Trade Laws

AGENCY: Maritime Administration, Department of Transportation.

ACTION: Invitation for public comments on a requested administrative waiver of the Coastwise Trade Laws for the vessel MENEHUNE.

SUMMARY: As authorized by Public Law 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Public Law 105-383 and MARAD's regulations at 46 CFR Part 388 (65 FR 6905; February 11, 2000) that the issuance of the waiver will have an unduly adverse effect on a U.S.-vessel builder or a business that uses U.S.-flag vessels, a waiver will not be granted.

DATES: Submit comments on or before September 25, 2000.

ADDRESSES: Comments should refer to docket number MARAD-2000-7831. Written comments may be submitted by hand or by mail to the Docket Clerk, U.S. DOT Dockets, Room PL-401, Department of Transportation, 400 7th St., SW, Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: U.S. Department of Transportation, Maritime Administration, MAR-832 Room 7201, 400 Seventh Street, SW, Washington, DC 20590. Telephone 202-366-4357.

SUPPLEMENTARY INFORMATION: Title V of Public Law 105-383 provides authority to the Secretary of Transportation to administratively waive the U.S.-build requirements of the Jones Act, and other statutes, for small commercial passenger vessels (no more than 12 passengers). This authority has been delegated to the Maritime Administration per 49 CFR § 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR Part 388.

Vessel Proposed for Waiver of the U.S.-Build Requirement

(1) Name of vessel and owner for which waiver is requested: Name of vessel: MENEHUNE. Owner: John M. Cece and Mary F. Cece.

(2) Size, capacity and tonnage of vessel: According to the Applicant: MENEHUNE is 42 feet long, with a beam of 13 feet and a gross tonnage of 24 tons (Net Tons: 22).

(3) Intended use for vessel, including geographic region of intended operation and trade: According to the applicant: The intended use of the vessel, after the granting of the waiver, is to conduct recreational, and learning cruises (usually day sails) on the Chesapeake Bay. The maximum number of passengers/students will be six (6) (NOT for the purpose of transportation between US ports, but for the purpose of recreation, and teaching sailing).

This will enable the vessel to operate as an uninspected vessel with a coastwise endorsement. The charter/lessons will be conducted by Menehune Charters in conjunction with Menehune Marine Services and John and Mary Cece. Menehune Marine Services is a Maryland Corporation and citizen of the United States.

(4) Date and place of construction and (if applicable) rebuilding: Date of construction: 1982. Place of construction: Whitby, Canada.

(5) A statement on the impact this waiver will have on other commercial passenger vessel operators: According to the applicant: It is anticipated that there will be NO impact on other commercial passenger operators (we anticipate that our passengers/students will come from an existing database of persons who have sailed with us in the past). Our charter/teaching operation was established in 1980.

(6) A statement on the impact this waiver will have on U.S. shipyards: According to the applicant: Granting of this waiver will have a positive impact on US shipyards. In addition to the estimated $20,000 already deposited with US shipyards/suppliers for repair and upgrade of this vessel, we will continue to purchase stores, fuel, repairs, and wharfage from US businesses.

If the waiver is NOT granted, the vessel will NOT be used in commercial voyages, and expenditures will be minimal. In addition, if the business expands, we may purchase a larger vessel which will be U.S. built and certified as an Inspected Vessel.

Dated: August 21, 2000.
By Order of the Maritime Administrator.
Joel C. Richard,
Secretary, Maritime Administration.

[FR Doc. 00-21686 Filed 8-23-00; 8:45 am]

BILLING CODE 4910-81-P